DEPARTMENT OF THE INTERIOR

Bureau of Safety and Environmental Enforcement

[EEEE500000 223E1700D2 ET1SF0000.EAQ000; BOEM-2021-0043]

Oil and Gas Decommissioning Activities on the Pacific Outer Continental Shelf

AGENCY: Bureau of Safety and Environmental Enforcement (BSEE)

ACTION: Notice of availability of the Draft Programmatic Environmental Impact Statement for Oil and Gas Decommissioning Activities on the Pacific Outer Continental Shelf.

SUMMARY: BSEE announces the availability of the Draft Programmatic Environmental Impact Statement (PEIS) for Oil and Gas Decommissioning Activities on the Pacific Outer Continental Shelf (OCS). This Notice of Availability (NOA) is published pursuant to the regulations implementing the provisions of the National Environmental Policy Act. The Bureau of Ocean Energy Management (BOEM) assisted BSEE in the preparation of this environmental impact statement. BSEE and BOEM prepared the Draft PEIS to inform BSEE's future decisions on operator applications to decommission OCS oil and gas platforms and associated infrastructure off the Southern California coast. The Army Corps of Engineers participated as a cooperating agency. This notice marks the start of the public review and comment period and announces two virtual public meetings. After the public meetings and written comments on the Draft PEIS have been reviewed and considered, a final PEIS will be prepared.

DATES: Comments on this Draft PEIS will be accepted until November 28, 2022. BOEM and BSEE will host two virtual public meetings on the Draft PEIS as follows:

• Thursday, November 10, 2022; 3:00 p.m.-5:00 p.m. Pacific Standard Time (PST)

• Wednesday, November 15, 2022; 11:00 a.m.-1:00 p.m. (PST)

Information regarding these meetings can be found at www.boem.gov/Pacific-Decomm-PEIS by clicking on the blue “Public Meeting” tab.

ADDRESSES: You may submit your comments through the Federal eRulemaking Portal at http://www.regulations.gov. In the search box, enter “BOEM-2021-0043” and then “Search.” Click on the “Comment” button below the document link. Enter your information and comment, then click “Submit Comment.”

Written comments should be enclosed in an envelope labeled “Comments on the Draft PEIS for Decommissioning Activities on the Pacific OCS” and mailed to Mr. Richard Yarde, Regional Supervisor, Bureau of Ocean Energy Management, Pacific OCS Region, 760 Paseo Camarillo, Suite 102, Camarillo, CA 93010-6002.

Comments by email should be sent to: richard.yarde@boem.gov. Please see the SUPPLEMENTARY INFORMATION section below for information on submitting comments via the internet and the public disclosure of commenters' names and addresses.

FOR FURTHER INFORMATION CONTACT: You may contact Mr. Richard Yarde, Regional Supervisor, Bureau of Ocean Energy Management, Pacific OCS Region, 760 Paseo Camarillo, Suite 102, Camarillo, CA 93010-6002. You may also contact Mr. Yarde by telephone at (805) 384-6379 or email at richard.yarde@boem.gov.

SUPPLEMENTARY INFORMATION:

Proposed Action: The proposed action evaluated in this PEIS is for BSEE to review and accept or reject, or approve with conditions, operator decommissioning applications for the removal and disposal of OCS oil and gas platforms, associated pipelines, and other facilities. Under the proposed action, all platforms, pipelines, and other facilities, and their related infrastructure, would be removed to a depth below the mudline, as required by regulation (15 feet; 30 CFR 250.1728(a)).

Alternatives Considered: The four alternatives analyzed in the Draft PEIS include Complete Removal (Proposed Action), Partial Removal without artificial reef option, Partial Removal with artificial reef option, and the No Action alternative. The activities analyzed in the PEIS include, but are not limited to, complete removal of the platforms employing non-explosive severance, removal of associated pipelines and other facilities and obstructions, onshore disposal, abandonment-in-place of associated pipelines, complete removal of topside superstructure, partial jacket removal to at least 26m (85 ft) below the waterline, as well as three sub-alternatives using explosive severance for the platform jackets.

Availability of the Draft PEIS: You may download or view the Draft PEIS, appendices, and associated information on the following website: www.boem.gov/Pacific-Decomm-PEIS.

Information on Submitting Comments: BSEE and BOEM do not accept anonymous comments. Your name and contact information are required to submit comments on the Federal eRulemaking Portal. Before including your name, return address, phone number, email address, or other personally identifiable information in your comment, you should be aware that your entire comment—including your personally identifiable information—may be made publicly available. In order for BSEE and BOEM to withhold from disclosure your personally identifiable information, you must identify, in a cover letter, any information contained in the submittal of your comments that, if released, would constitute a clearly unwarranted invasion of your personal privacy. You must also briefly describe in such cover letter any possible harmful consequences of the disclosure of information, such as embarrassment, injury, or other harm. While you can ask us in your comment to withhold your personally identifiable information from public review, we cannot guarantee that we will be able to do so. Even if BSEE and BOEM withhold your information in the context of this comment period, your submission is subject to the Freedom of Information Act (FOIA) and any relevant court orders, and if your submission is requested under the FOIA or such court order, your information will only be withheld if a determination is made that one of the FOIA's exemptions to disclosure applies or if such court order is challenged. Such a determination will be made in accordance with the Department's FOIA regulations and applicable law.

Authority: 42 U.S.C. 4231 et seq.; 43 CFR 46.415 (2019 ed.).

Kevin M. Sligh, Sr.,
Director, Bureau of Safety and Environmental Enforcement.

[FR Doc. 2022-21994 Filed 10-11-22; 8:45 am]

BILLING CODE 4310-VH-P